DEPARTMENT OF JUSTICE

Antitrust Division

Notice Pursuant to the National Cooperative Research and Production Act of 1993—Air Conditioning and Refrigeration Institute, Inc.

Notice is hereby given that, on July 19, 2004, pursuant to Section 6(a) of the National Cooperative Research and Production Act of 1993, 15 U.S.C. 4301 et seq. (“the Act”), the Air-conditioning and Refrigeration Institute (“ARI”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Air-Conditioning and Refrigeration Institute, Inc., Arlington, VA. The nature and scope of ARI's standards development activities are to develop, promulgate and publish voluntary consensus standards for air conditioning and refrigeration products. ARI standards establish rating criteria and procedures for measuring and certifying product performance. ARI's standards ensure the rating of air conditioning and refrigeration products on a uniform basis, so that buyers and users can properly compare products for specific applications. ARI's voluntary consensus standards are developed by ARI members and other interested parties who wish to participate in ARI's standard development process.

Additional information concerning ARI can be obtained from Stephen R. Yurek, General Counsel of ARI, at (703) 524-8800.

Dorothy B. Fountain,
Deputy Director of Operations, Antitrust Division.

[FR Doc. 04-19768 Filed 8-27-04; 8:45 am]

BILLING CODE 4410-11-M